DEPARTMENT OF TRANSPORTATION

Coast Guard

46 CFR Parts 140 to 146

[USCG-2001-9173]

Floating Production, Storage, and Offloading Units in the Gulf of Mexico

AGENCY: Coast Guard, DOT.

ACTION: Notice of meeting; request for comments.

SUMMARY: The Coast Guard's Marine Safety and Environmental Protection Directorate and the Minerals Management Service (MMS), will jointly hold a public listening session. This listening session is in response to the marine industry's concerns regarding the standards and regulations applicable to the operation of Floating Production, Storage and Offloading (FPSO) units in the Gulf of Mexico. This listening session is being held to collect comments on design, construction, operating and safety standards or regulations for FPSOs and any possible need to clarify standards or enforcement policy regarding these safety standards. We encourage interested parties to attend the meeting and submit comments for discussion during the meeting. We also seek written comments from any party who is unable to attend the meeting.

DATES: Public Meeting: We will hold the meeting on Thursday, 3 May 2001, from 2 to 5 p.m.

Written Comments: Comments and related material must reach the Docket Management Facility on or before 25 April, 2001. The Docket Management Facility must receive your comments on or before 25 April 2001.

ADDRESSES: Public Meeting: We will hold the meeting at the Sheraton North Houston Hotel's Amphitheater, at George Bush International Airport, 15700 John F. Kennedy Blvd, Houston Texas.

Written Comments: To make sure that your comments and related material are not entered more than once in the docket, please submit them by only one of the following means:

(1) By mail to the Docket Management Facility (USCG-2001-9173), U.S. Department of Transportation, room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By Internet to http://dms.dot.gov.

(4) By Fax to the Docket Management Facility: 202-493-2251.

FOR FURTHER INFORMATION CONTACT: For information concerning this notice or the public meeting, contact Lieutenant Commander Russell Proctor, Vessel Compliance Division (G-MOC-2), U.S. Coast Guard Headquarters, 2100 Second Street, SW., Washington, DC 20590, telephone 202-267-0499. For questions on viewing or submitting material to the docket contact Dorothy Beard, Chief, Dockets, Department of Transportation, telephone 202-366-5149.

SUPPLEMENTARY INFORMATION:

How Do I Participate in This Action?

The Coast Guard encourages you to participate by submitting comments and related material, and by attending the public meeting. If you submit written comments, please include—

• Your name and address;

• The docket number for this notice (USCG-2001-9173);

• The specific section of this notice to which each comment applies; and

• The reason for each comment.

You may mail, deliver, fax, or electronically submit your comments and attachments to the Docket Management Facility, using an address or fax number listed in the ADDRESSES section of this notice. Please do not submit the same comment or attachment by more than one method. If you mail or deliver your comments, they must be on 8½ by 11 inch paper and the quality of the copy should be clear enough for copying and scanning. If you mail your comments, and you would like to know if the Docket Management Facility received them, please enclose a stamped, self-addressed postcard or envelope. We will consider all comments and material received during the comment period.

How Can I Get Additional Information, Including Copies of This Notice or Other Related Documents?

The Docket Management Facility maintains the public docket for this notice. The docket number for this notice is USCG-2001-9173. Comments, and other documents related to this notice will become part of this docket and will be available for inspection or copying as follows:

• In person: You may access the docket in room PL-401, on the Plaza Level of the Nassif Building at the same address, between 9 a.m. and 5 p.m., Monday through Friday. The facility is closed on Federal holidays.

• Electronically: You may access the docket on the Internet at http://dms.dot.gov.

Where Can I Get Information on Service for Individuals With Disabilities?

To obtain information on facilities or services for individuals with disabilities or to request that we provide special assistance at the public meeting, please contact Lieutenant Commander Russell Proctor as soon as possible. You will find his address and phone number in the FOR FURTHER INFORMATION CONTACT section of this notice.

Why Is the Coast Guard Holding This Public Meeting?

This meeting is in response to requests for information and direction from the oil industry on the regulations and policies the Coast Guard and MMS will jointly use to inspect and oversee the safety regimen for FPSO operation and lightering in the Gulf of Mexico (GOM). No direct request was received by either agency to have this meeting, but interest in these operations is building due to recent oil exploration finds in the deepwater sectors of the GOM. There have been numerous requests for information, seeking specifics as to the applicability of existing federal standards and enforcement policy, as well as suggestions regarding various practices that should be incorporated in the further development of deep water oil and gas projects in the GOM. Prior to finalizing policy in this arena we would like to take an opportunity to hear and collect information from all interested parties. The Coast Guard and MMS are coming to the meeting, not to discuss issues or actions, but to listen to industry and public concerns about which safety and operation standards should be used for this new oil production technology within the GOM. If indicators are received from this listening session and written comments that regulations or standards need to be developed for FPSO operations in the GOM, the Coast Guard will open a rulemaking to address these issues.

What Issues Should I Discuss at the Meeting or Address in Written Comments?

The public meeting on 3 May, 2001, will provide a forum for members of the public and industry to discuss FPSO operation in the GOM. You can discuss or comment on any ideas or issues you have in this area of deepwater oil production, use of FPSOs in the GOM, shuttling of produced oil from deepwater operations, and industry or regulatory standards that would be applicable to these operations. Specific questions that the Coast Guard and MMS have and would like to see answered in the written or verbal comments are:

1. Is the industry seeking to use U.S. or foreign-flagged FPSOs in deepwater operations in the GOM?

2. What type of ships or pipelines will be used to transfer the produced oil to U.S. Gulf Ports?

3. What are the three most significant regulatory barriers to resolve before FPSO applications are received for review and approval?

4. What types of standards are being used to design and equip FPSOs for the GOM, in the way of:

• Turret units and turrets locations onboard the unit;

• Crude Oil Washing systems;

• Double hull construction;

• Wave plates or sea walls;

• Inert gas systems;

• Anchoring systems;

• Lifesaving equipment;

• Oil spill response equipment; and

• Safety management systems?

5. What standards should be used for the manning and certification of personnel completing the drilling or lightering operations on FPSOs?

6. USCG lightering regulations are contained in Title 33, Code of Federal Regulations (CFR), part 156—Subpart B, with additional GOM specific lightering zone regulations in 33 CFR 156-Subpart C. Are additional regulations or standards required to address FPSO cargo transfer operations in deepwater activities of the GOM?

7. What standards should be used for the development of operation requirements (operations manual) for an FPSO lightering to shuttle vessels?

8. Should safety zones be established around FPSO operations, similar to those for fixed OCS facilities or the Louisiana Offshore Oil Port?

9. Should lightering operations at a FPSO, require a standby vessel(s), and when?

10. Deepwater response logistics, such as environmental or medical, present increasing challenges. What “first response' offsets are contemplated to minimize the potential of aggravating emergency situations?

11. What types of standards are being used to design and equip shuttle tankers or articulated tug-barge units for offload of FPSOs, in the way of:

• Oil lightering systems;

• Positioning systems; and

• Emergency break-aways from transfer hoses during lightering operations.

Interested parties who cannot attend the meeting are strongly encouraged to submit issues to the docket for discussion at the public meeting prior to 25 April, 2001.

What Is the Agenda for the Public Meeting?

The agenda for the meeting on May 3, 2001, is as follows:

• Introduction and Overview of meeting rules;

• Presentation and discussion of areas of concern, standards that are already in place;

• Presentation of written statements or comments submitted to the docket prior to the meeting;

• Listening session, verbal comments presented by attending members of the public and industry; and

• Closing statements and expected next steps by the Coast Guard and MMS.

Dated: March 19, 2001.
Howard H. Hime,
Acting, Director of Standards.

[FR Doc. 01-7319 Filed 3-26-01; 8:45 am]

BILLING CODE 4910-15-P